NUCLEAR REGULATORY COMMISSION

10 CFR Part 61

[NRC-2011-0012]

RIN-3150-AI92

Workshop on Performance Assessments of Near-Surface Disposal Facilities: FEPs Analysis, Scenario and Conceptual Model Development, and Code Selection

AGENCY: Nuclear Regulatory Commission.

ACTION: Public meeting.

SUMMARY: The U.S. Nuclear Regulatory Commission (NRC or the Commission) plans to conduct a workshop on performance assessments of near-surface low-level radioactive waste (LLW) disposal facilities. The workshop has been developed to facilitate communication among Federal and State agencies, industry representatives, contractors, and members of the public on three aspects of a performance assessment: (1) Features, Events, and Processes (FEPs) analysis, (2) the development of scenarios and conceptual models, and (3) the selection of computer codes. Information gathered from invited subject matter experts, stakeholders, and other interested members of the public will be used to improve guidance on performance assessments for near-surface disposal of LLW.

DATES: The workshop will be held on August 29 and August 30, 2012.

ADDRESSES: The public meeting will be held (registration begins at 7:30 a.m.) at the NRC Auditorium, 11545 Rockville Pike, Rockville, Maryland 20852. The NRC welcomes active participation from those attending. Members of the public will be able to participate via telephone and webinar. The telephone and webinar information is provided below.

FOR FURTHER INFORMATION CONTACT: George Alexander, Office of Federal and State Materials and Environmental Management Programs, U.S. Nuclear Regulatory Commission, Washington, DC 20555-0001; telephone: 301-415-6755; email: George.Alexander@nrc.gov; or Tarsha Moon, Office of Federal and State Materials and Environmental Management Programs, U.S. Nuclear Regulatory Commission, Washington, DC 20555-0001; telephone: 301-415-6745; email: Tarsha.Moon@nrc.gov.

SUPPLEMENTARY INFORMATION:

I. Accessing Information

Please refer to Docket ID NRC-2011-0012 when contacting the NRC about the availability of information regarding this document. You may access information related to this document, which the NRC possesses and are publicly-available, using any of the following methods:

• Federal Rulemaking Web site: Go to http://www.regulations.gov and search for Docket ID NRC-2011-0012. Address questions about NRC dockets to Carol Gallagher; telephone: 301-492-3668; email: Carol.Gallagher@nrc.gov.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

• Information related to the workshop will be made available on the NRC's Web site. Information on the Web site will include any updates to the workshop, the final agenda, workshop presentations, and a video recording of the workshop.

II. Background

The Commission's licensing requirements for the disposal of LLW in near-surface [approximately the uppermost 30 meters (100 feet)] facilities reside in Title 10 of the Code of Federal Regulations (10 CFR) Part 61, “Licensing Requirements for Land Disposal of Radioactive Waste.” These regulations were published in the Federal Register on December 27, 1982 (47 FR 57446). The regulations emphasize an integrated systems approach to the disposal of commercial LLW, including site selection, disposal facility design and operation, minimum waste form requirements, and disposal facility closure. In connection with demonstrating compliance with 10 CFR Part 61, a performance assessment is used to quantitatively evaluate potential releases into the environment and the resultant radiological doses. NRC guidance for developing performance assessments can be found in NUREG-1573. Currently, the NRC is considering a revision to 10 CFR Part 61.¹

¹ See http://www.nrc.gov/about-nrc/regulatory/rulemaking/potential-rulemaking/potential-part61-revision.html#initiative.

III. NRC Public Meeting

The purpose of this public meeting is to facilitate communication and gather information from Federal and State agencies, industry representatives, contractors, and members of the public concerning performance assessments of near-surface disposal facilities. Stakeholders and other interested members of the public will have an opportunity to pose questions directly to presenters and panelists in each of the sessions. Information gathered in the meeting will be used to improve guidance on performance assessments for near-surface disposal of LLW. The workshop will be organized into four sessions comprising a series of presentations followed by panel discussions of invited subject matter experts. The workshop sessions are as follows:

• Session 1: Performance Assessment Overview: US and International Approaches to Performance Assessment and Experiences with Analyses for LLW

• Session 2: Analysis of FEPs for Near-Surface Disposal Facilities

• Session 3: Scenario and Conceptual Model Development

• Session 4: Code Selection and Implementation, Model Abstraction, and Confidence Building Activities

The public meeting will be held on August 29 and August 30, 2012, from 8:00 a.m. to 5:00 p.m. (registration begins at 7:30 a.m.) in the Auditorium on Level P1 at NRC Headquarters, 11545 Rockville Pike, Rockville, Maryland 20852. Pre-registration for this meeting is not necessary. Members of the public choosing to participate in this meeting remotely can do so in one of two ways—online, or via a telephone (audio) connection. The webinar and call-in information is provided below:

Date and Time: August 29, 2012 8:00 a.m. to 5:00 p.m.

Telephone Number: 1-888-469-3043.

Access Code: 23678.

Webinar Address: https://www1.gotomeeting.com/register/937057065.

Date and Time: August 30, 2012 8:00 a.m. to 5:00 p.m.

Telephone Number: 1-888-942-8392.

Access Code: 85687.

Webinar Address: https://www1.gotomeeting.com/register/156319977.

Members of the public interested in participating via webinar should follow the registration link above. After registering, instructions for joining the Webinar (including a teleconference number and pass code) will be provided via email. All participants will be in “listen-only” mode during the presentation. Participants will have a chance to pose questions either orally after the presentation or in writing during the Webinar.

The agenda for the public meeting will be noticed no fewer than 10 days prior to the meeting on the NRC's Public Meeting Schedule Web site at http://www.nrc.gov/public-involve/public-meetings/index.cfm.

Questions about participation in the public meetings should be directed to the points of contact listed in the FOR FURTHER INFORMATION CONTACT section of this document.

Dated at Rockville, Maryland, this 6th day of August 2012.
For the Nuclear Regulatory Commission.
Kevin Hsueh,
Acting Deputy Director, Environmental Protection and Performance Assessment Directorate, Division of Waste Management and Environmental Protection, Office of Federal and State Materials and Environmental Management Programs.

[FR Doc. 2012-19774 Filed 8-10-12; 8:45 am]

BILLING CODE 7590-01-P